DEPARTMENT OF HOMELAND SECURITY

Transportation Security Administration

Extension of Agency Information Collection Activity Under OMB Review: Screening Partnership Program

AGENCY: Transportation Security Administration, DHS.

ACTION: 30-Day notice.

SUMMARY: This notice announces that the Transportation Security Administration (TSA) has forwarded the Information Collection Request (ICR), Office of Management and Budget (OMB) control number 1652-0064, abstracted below to OMB for review and approval of an extension of the currently approved collection under the Paperwork Reduction Act. The ICR describes the nature of the information collection and its expected burden. The collection involves an application completed by airports to initiate a request to participate in TSA's Screening Partnership Program (SPP).

DATES: Send your comments by June 14, 2021. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on February 12, 2021. See 86 FR 9358.

Comments Invited

In accordance with the Paperwork Reduction Act of 1995 (44 U.S.C. 3501 et seq.), an agency may not conduct or sponsor, and a person is not required to respond to, a collection of information unless it displays a valid OMB control number. This ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Screening Partnership Program Application.

Type of Request: Extension.

OMB Control Number: 1652-0064.

Form(s): TSA Form 424 Screening Partnership Program Application.

Affected Public: Airport Operators.

Abstract: Under 49 U.S.C. 44920, an airport may submit an application to TSA to have the screening of passengers and property required by 49 U.S.C. 44901 conducted by non-Federal personnel. TSA must approve the application if the approval “would not compromise security or detrimentally affect the cost-efficiency or the effectiveness of the screening of passengers or property at the airport.” TSA implements this requirement through the SPP. Participation in the SPP is initiated with the application covered by this information collection.

Number of Respondents: 2.

Estimated Annual Burden Hours: An estimated 0.50 hours annually.

Dated: May 10, 2021.
Christina A. Walsh,
TSA Paperwork Reduction Act Officer, Information Technology.

[FR Doc. 2021-10182 Filed 5-13-21; 8:45 am]

BILLING CODE 9110-05-P